DEPARTMENT OF TRANSPORTATION

Federal Highway Administration

Environmental Impact Statement: St. Charles and St. Louis Counties, MO

AGENCY: Federal Highway Administration (FHWA), DOT.

ACTION: Notice of intent.

SUMMARY: The FHWA is issuing this notice to advice the public that an environmental impact statements (EIS) will be prepared for a proposed new bridge location of U.S. Route 40 and Interstate 64 over the Missouri River in St. Charles and St. Louis Counties, Missouri.

FOR FURTHER INFORMATION CONTACT: Ms. Peggy Casey, Environmental Projects Engineer, FHWA Division Office, 209 Adams Street, Jefferson City, MO 65101, Telephone: (573) 636-7104; or Mr. Dave Nichols, Director of Project Development, Missouri Department of Transportation, PO. Box 270, Jefferson City, MO 65102, Telephone Number: (573) 751-4586.

SUPPLEMENTARY INFORMATION: The FHWA, in cooperation with the Missouri Department of Transportation (MoDOT), will prepare an EIS on a proposal to replace the existing westbound I-64 (U.S. Route 40) bridge over the Missouri River with a new bridge and appurtenant roadways/structures in St. Charles and St. Louis Counties, Missouri. The existing westbound bridge was completed in 1935. A location study will run concurrently with the preparation of the EIS and will provide definitive alternatives for evaluation in the EIS. The proposed action will accomplish several goals:

(1) Improve safety and capacity for through traffic, (2) replace the aging westbound bridge over the Missouri River, and (3) promote economic development in the counties involved.

The proposed project begins 0.5 mile east of the U.S. Route 40 and Route 94 interchange in St. Charles County and continues easterly to 0.6 mile east of the Chesterfield Airport Road interchange in St. Louis County. The project in approximately 1.9 miles in length. The proposed new bridge location will provide for a 3 or 4-lane crossing of the Missouri River.

Alternatives under consideration include (1) No build, (2) build alternatives north or south of the existing bridge and (3) transportation system management options.

To date, preliminary information has been issued to local officials and other interested parties. As part of the scoping process, an interagency meeting will be held with federal, state, and local agencies. In addition, public information meetings, and community official meetings will be held to solicit public and agency input and to engage the regional community in the decision making process. A location public hearing will be held to present the findings of the draft EIS (DEIS). The DEIS will be available for public and agency review and comment prior to the public hearing.

To ensure that the full range of issues related to this proposed action are addressed and all significant issues identified, comments and suggestions are invited from all interested parties. Comments or questions concerning this proposed action and the EIS should be directed to the FHWA or MoDOT at the address provided above.

(Catalog of Federal Domestic Assistance Program Number 20.205, Highway Planning and Construction. The regulations implementing Executive Order 12372 regarding intergovernmental consultation on Federal programs and activities apply to this program.)

Issued on: November 13, 2001.
Peggy J. Casey,
Environmental Projects Engineer, Jefferson City.

[FR Doc. 01-28909 Filed 11-19-01; 8:45 am]

BILLING CODE 4910-22-M